DEPARTMENT OF TRANSPORTATION

Federal Aviation Administration

14 CFR Part 39

[Docket No. FAA-2013-0354; Directorate Identifier 2011-SW-072-AD; Amendment 39-17665; AD 2013-23-10]

RIN 2120-AA64

Airworthiness Directives; Eurocopter France Helicopters

AGENCY: Federal Aviation Administration (FAA), DOT.

ACTION: Final rule.

SUMMARY: We are superseding Airworthiness Directive (AD) 2010-21-01 for Eurocopter France (Eurocopter) Model AS350B, BA, B1, B2, B3, D, AS355E, F, F1, F2, and N helicopters. AD 2010-21-01 required an inspection to determine whether a cross-member is installed at station X 2165 and doublers at X 2325 and Y 269, and installing them if they are missing. This new AD retains the requirements of AD 2010-21-01 but clarifies the inspection procedures and limits the applicability to only those helicopters with collective-to-yaw control coupling. This AD is prompted by a crack discovered in the area of the center cross-member at station X 2325, at the attachment point of the yaw channel ball-type control sheath stop, of a Model AS355N helicopter fitted with the collective-to-yaw control coupling. The actions of this AD are intended to prevent reduced yaw control and subsequent loss of helicopter control.

DATES: This AD is effective December 30, 2013.

The Director of the Federal Register approved the incorporation by reference of certain documents listed in this AD as of December 30, 2013.

ADDRESSES: For service information identified in this AD, contact American Eurocopter Corporation, 2701 N. Forum Drive, Grand Prairie, TX 75052; telephone (972) 641-0000 or (800) 232-0323; fax (972) 641-3775; or at http://www.eurocopter.com/techpub. You may review the referenced service information at the FAA, Office of the Regional Counsel, Southwest Region, 2601 Meacham Blvd., Room 663, Fort Worth, Texas 76137.

Examining the AD Docket

You may examine the AD docket on the Internet at http://www.regulations.gov or in person at the Docket Operations Office between 9 a.m. and 5 p.m., Monday through Friday, except Federal holidays. The AD docket contains this AD, the European Aviation Safety Agency (EASA) AD, any incorporated-by-reference service information, the economic evaluation, any comments received, and other information. The street address for the Docket Operations Office (phone: 800-647-5527) is U.S. Department of Transportation, Docket Operations Office, M-30, West Building Ground Floor, Room W12-140, 1200 New Jersey Avenue SE., Washington, DC 20590.

FOR FURTHER INFORMATION CONTACT: Gary Roach, Aviation Safety Engineer, Regulations and Policy Group, Rotorcraft Directorate, FAA, 2601 Meacham Blvd., Fort Worth, TX 76137; telephone (817) 222-5110; email gary.b.roach@faa.gov.

SUPPLEMENTARY INFORMATION:

Discussion

We issued a notice of proposed rulemaking (NPRM) to amend 14 CFR part 39 to supersede AD 2010-21-01, Amendment 39-16461 (75 FR 63050, October 14, 2010), which applied to Eurocopter Model AS350B, BA, B1, B2, B3, D, AS355E, F, F1, F2, and N helicopters. The NPRM was published in the Federal Register on July 3, 2013 (78 FR 40045). AD No. 2010-21-01 required within 10 hours time-in-service (TIS) or 1 month, inspecting the helicopters to determine whether a cross-member is installed at station X 2165 and doublers at X 2325 and Y 269. If the cross-member and doublers are not installed, AD No. 2010-21-01 required inspecting for a crack in the center cross-member, and replacing the center cross-member if there is a crack before further flight. If a crack does not exist, AD No. 2010-21-01 required inspecting the tail rotor control rigging before further flight. Lastly, if needed, AD 2010-21-01 required installing a cross-member and two doublers within 55 hours TIS. AD 2010-21-01 was prompted by AD No. 2007-0139-E, dated May 15, 2007 (corrected May 23, 2007), issued by EASA, which is the Technical Agent for the Member States of the European Union. EASA advised that a crack was discovered in the area of the center cross-member at station X 2325, at the attachment point of the yaw channel ball-type control sheath stop, of a Model AS355N helicopter fitted with the collective-to-yaw control coupling.

Since we issued AD No. 2010-21-01, we discovered that we included all helicopters in the AD applicability rather than limiting it to only those helicopters with collective-to-yaw control coupling. Therefore, this new AD retains the requirements in AD No. 2010-21-01 with some revisions for the inspection of the tail rotor control rigging to clarify those procedures. This AD also reduces the applicability to only those Model AS350 and AS355 helicopters with collective-to-yaw control coupling installed.

Comments

We gave the public the opportunity to participate in developing this AD, but we received no comments on the NPRM (78 FR 40045, July 3, 2013).

FAA's Determination

These helicopters have been approved by the aviation authority of France and are approved for operation in the United States. Pursuant to our bilateral agreement with France, EASA, its technical representative, has notified us of the unsafe condition described in the EASA AD. We are issuing this AD because we evaluated all information provided by EASA and determined the unsafe condition exists and is likely to exist or develop on other helicopters of these same type designs and that air safety and the public interest require adopting the AD requirements as proposed.

Differences Between This AD and the EASA AD

This AD differs from the EASA AD as follows:

• We require the installation of the cross-member at station X 2165 and the two doublers at stations X 2325 and Y 269 within 55 hours time-in-service. The EASA AD requires that this action be accomplished within 12 months.

• We do not require repetitive inspections if no crack exists in the center cross-member, whereas the EASA AD does.

• We do not include military model helicopters in the applicability.

Related Service Information

We reviewed Eurocopter Emergency Alert Service Bulletin (EASB), Revision 0, dated April 11, 2007, that contains three different numbers (Nos. 53.00.37, 53.00.11, and 53.00.23) for Eurocopter Model 350, 355, 550, and 555 helicopters. EASB No. 53.00.37 relates to two Model 350 (350 BB and 350 L1) helicopters that are not type certificated in the United States. EASB No. 53.00.11 relates to four Model 550 and six Model 555 military helicopters that are not type-certificated in the United States. The EASB describes procedures for checking the conformity for the cross member at X 2325 under the cabin floor. The actions in the EASA AD are intended to correct the same unsafe condition as that identified in the service bulletin.

Costs of Compliance

We estimate that this AD affects 72 helicopters of U.S. Registry and that labor costs average $85 a work-hour. It takes about one work-hour to perform the inspections, and if needed, to install the cross-member, two doublers and an airworthy center-cross member. Required parts cost about $161 per helicopter. Based on these figures, we estimate the cost of the AD to be $246 per helicopter and $17,712 for the fleet if all repairs are needed.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on helicopters identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979);

(3) Will not affect intrastate aviation in Alaska to the extent that it justifies making a regulatory distinction; and

(4) Will not have a significant economic impact, positive or negative, on a substantial number of small entities under the criteria of the Regulatory Flexibility Act.

We prepared an economic evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2010-21-01, Amendment 39-16461 (75 FR 63050, October 14, 2010), and adding the following new AD:

2013-23-10 Eurocopter France: Amendment 39-17665; Docket No. FAA-2013-0354; Directorate Identifier 2011-SW-072-AD.

(a) Applicability

This AD applies to Eurocopter France Model AS350B, BA, B1, B2, B3, D, AS355E, F, F1, F2, and N helicopters with collective-to-yaw control coupling, part number 350A27-2178-04, 350A27-2178-06, or 350A27-2178-0601, certificated in any category.

(b) Unsafe Condition

This AD defines the unsafe condition as reduced yaw control travel, which could result in loss of control of the helicopter.

(c) Affected ADs

This AD supersedes AD 2010-21-01, Amendment 39-16461 (75 FR 63050, October 14, 2010).

(d) Effective Date

This AD becomes effective December 30, 2013.

(e) Compliance

You are responsible for performing each action required by this AD within the specified compliance time unless it has already been accomplished prior to that time.

(f) Required Actions

(1) Within 10 hours time-in-service (TIS) or within one month, whichever occurs first, determine whether the cross-member (numbered “1”) at station X 2165 and the two doublers (numbered “2” and “3”) at stations X 2325 and Y 269 are installed as shown in Figure 1 of Eurocopter Emergency Alert Service Bulletin (EASB) No. 53.00.37, Revision 0, dated April 11, 2007 (EASB 53.00.37), for Model AS350 helicopters and EASB No. 53.00.23, Revision 0, dated April 11, 2007 (EASB 53.00.23), for Model AS355 helicopters.

(2) If the cross-member (numbered “1”) and doublers (numbered “2” and “3”) are not installed, before further flight, inspect for a crack in the center cross-member (numbered “4”) in the area around the attachment point of the tail rotor directional ball-type control as shown in Figure 1 of EASB 53.00.37 for Model AS350 helicopters or EASB 53.00.23 for Model AS355 helicopters.

(i) If a crack exists, before further flight, replace the unairworthy center cross-member (Numbered “4”) with an airworthy center cross-member as described in paragraph (f)(3) of this AD.

(ii) If a crack does not exist, before further flight, inspect the tail rotor control rigging to determine whether it meets conformity limits.

(A) If all items of the tail rotor control rigging are found within conformity limits, install the cross-member and doublers as described in paragraph (f)(3) of this AD.

(B) For any items of the tail rotor control rigging found outside of conformity limits, perform appropriate corrective action in accordance with FAA-accepted procedures, and install the cross-member and doublers as described in paragraph (f)(3) of this AD.

(3) Within 55 hours TIS, if the cross member (Numbered “1”) is not installed, install the cross-member at station X 2165 and the 2 doublers (Numbered “2” and “3”) at stations X 2325 and Y 269 by following the Appendix, the referenced figures 2 and 3 of EASB 53.00.37 for Model AS350 helicopters or EASB 53.00.23 for Model AS355 helicopters.

(g) Alternative Methods of Compliance (AMOCs)

(1) The Manager, Safety Management Group, FAA, may approve AMOCs for this AD. Send your proposal to: Gary Roach, Aviation Safety Engineer, Regulations and Policy Group, Rotorcraft Directorate, FAA, 2601 Meacham Blvd., Fort Worth, TX 76137; telephone (817) 222-5110; email gary.b.roach@faa.gov.

(2) For operations conducted under a 14 CFR part 119 operating certificate or under 14 CFR part 91, subpart K, we suggest that you notify your principal inspector, or lacking a principal inspector, the manager of the local flight standards district office or certificate holding district office, before operating any aircraft complying with this AD through an AMOC.

(h) Additional Information

The subject of this AD is addressed in the European Aviation Safety Agency (EASA) AD No. 2007-0139-E, dated May 15, 2007 (corrected May 23, 2007). You may view the EASA AD at http://www.regulations.gov by searching for and locating it in Docket No. FAA-2013-0354.

(i) Subject

Joint Aircraft Service Component (JASC) Code: 5320, Fuselage Miscellaneous Structure.

(j) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Eurocopter Emergency Alert Service Bulletin No. 53.00.37, Revision 0, dated April 11, 2007.

(ii) Eurocopter Emergency Alert Service Bulletin No. 53.00.23, Revision 0, dated April 11, 2007.

Note 1 to paragraph (j)(2): Eurocopter Emergency Alert Service Bulletin (EASB) No. 53.00.37, Revision 0, dated April 11, 2007, and Eurocopter EASB No. 53.00.23, Revision 0, dated April 11, 2007, are co-published as one document along with Eurocopter EASB No. 53.00.11, Revision 0, dated April 11, 2007, which is not incorporated by reference in this AD.

(3) For Eurocopter service information identified in this AD, contact American Eurocopter Corporation, 2701 N. Forum Drive, Grand Prairie, TX 75052; telephone (972) 641-0000 or (800) 232-0323; fax (972) 641-3775; or at http://www.eurocopter.com/techpub.

(4) You may view this service information at FAA, Office of the Regional Counsel, Southwest Region, 2601 Meacham Blvd., Room 663, Fort Worth, Texas 76137. For information on the availability of this material at the FAA, call (817) 222-5110.

(5) You may view this service information that is incorporated by reference at the National Archives and Records Administration (NARA). For information on the availability of this material at NARA, call (202) 741-6030, or go to: http://www.archives.gov/federal-register/cfr/ibr-locations.html.

Issued in Fort Worth, Texas, on November 5, 2013.
Lance T. Gant,
Acting Directorate Manager, Rotorcraft Directorate, Aircraft Certification Service.

[FR Doc. 2013-27637 Filed 11-22-13; 8:45 am]

BILLING CODE 4910-13-P